DEPARTMENT OF HOMELAND SECURITY

Coast Guard

33 CFR Part 165

RIN 1625-AA00

[Docket No. USCG-2009-0532]

Safety Zones; Fireworks Displays Within the Captain of the Port Puget Sound Zone

AGENCY: Coast Guard, DHS.

ACTION: Temporary final rule.

SUMMARY: The U.S. Coast Guard is establishing safety zones on the waters of the Puget Sound located in the Captain of the Port Puget Sound Zone during multiple firework displays. This action is necessary for the safety of life and property on navigable waters during these events. Entry into, transit through, mooring, or anchoring within these zones is prohibited unless authorized by the Captain of the Port, Puget Sound or a designated representative.

DATES: This rule is effective from 8 a.m. on July 2, 2009 through 8 a.m. on August 2, 2009.

ADDRESSES: Documents indicated in this preamble as being available in the docket are part of docket USCG-2009-0532 and are available online by going to http://www.regulations.gov, selecting the Advanced Docket Search option on the right side of the screen, inserting USCG-2009-0532 in the Docket ID box, pressing Enter, and then clicking on the item in the Docket ID column. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail Ensign Ashley M. Wanzer, USCG Sector Seattle Waterways Management Division, Coast Guard; telephone 206-217-6175, e-mail Ashley.M.Wanzer@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because immediate creation of a safety zone is necessary to protect the public from the hazards associated with these fireworks events. These events involve the launching of projectiles over a marine environment and falling hot debris and flammable materials in the vicinity of public marine traffic and spectators.

Under 5 U.S.C. 553(d)(3), the Coast Guard also finds that good cause exists for making this rule effective less than 30 days after publication in the Federal Register for the same reasons.

Background and Purpose

The U.S. Coast Guard is establishing temporary safety zones to allow for safe fireworks displays. All events occur within the Captain of the Port Puget Sound area of responsibility. These events may result in a number of vessels congregating near fireworks launching barges and sites. The safety zones are needed to protect watercraft and their occupants from safety hazards associated with fireworks displays. The Captain of the Port Puget Sound may be assisted by other federal and local agencies in the enforcement of this safety zone.

Discussion of Rule

This rule will control the movement of all vessels and persons in safety zones surrounding the following fireworks events:

(1) Alderbrook Resort & Spa 4th of July, Hood Canal, WA, 9:45 p.m. to 11:30 p.m. on July 2, 2009.

(2) Langlie's Old Fashioned Independence Celebration, Indianola, WA, 9:30 p.m. to 11:30 p.m. on July 3, 2009.

(3) Independence Day Firework Show, Liberty Bay Poulsbo, WA, 7:30 p.m. to 11:30 p.m. on July 3, 2009.

(4) Deer Harbor Annual Fireworks Display, Deer Harbor, WA, 11:30 a.m. on July 3, 2009 to 01 a.m. on July 4, 2009.

(5) Tacoma Freedom Fair, Commencement Bay, WA, 9 p.m. to 11:30 p.m. on July 4, 2009.

(6) Blast Over Bellingham Bay, Bellingham Bay,WA, 9:30 p.m. to 11:30 p.m. on July 4, 2009.

(7) Bainbridge Island 4th of July, Eagle Harbor, WA, 9 p.m. to 11:30 p.m. on July 4, 2009.

(8) Sheridan Beach Community, Lake Forest Park, WA, 9 p.m. to 11:30 p.m. on July 4, 2009.

(9) City of Kenmore 4th of July, Lake Forest Park, WA, 9 p.m. to 11:30 p.m. on July 4, 2009.

(10) Vashon Island 4th of July, Quartermaster Harbor, WA, 9 p.m. to 11:30 p.m. on July 4, 2009.

(11) Three Tree Point Community, Three Tree Point, WA, 9:30 p.m. to 11:30 p.m. on July 4, 2009.

(12) Medina Days, Medina Park, WA, 9:30 p.m. to 11:30 p.m. on July 4, 2009.

(13) Orcas Island, Rock Island, Orcas Island, WA, 9 p.m. to 11:59 p.m. on July 4, 2009.

(14) Kingston Fireworks, Appletree Cove, WA, 9:30 p.m. to 11 p.m. on July 4, 2009.

(15) Port Townsend Sunrise Rotary, Port Townsend, WA, 9:30 p.m. to 11 p.m. on July 4, 2009.

(16) City of Mount Vernon 4th of July, Edgewater Park, WA, 9:30 p.m. to 11:30 p.m. on July 4, 2009.

(17) Kirkland 4th of July, Kirkland, Lake Washington, WA, 9:30 p.m. to 11:30 p.m. on July 4, 2009.

(18) Lake Forest Park 4th of July, Lake Forest Park, WA, 9:30 p.m. to 11 p.m. on July 4, 2009.

(19) City of Renton, Renton, Lake Washington, WA, 9:30 p.m. to 11 p.m. on July 4, 2009.

(20) Yarrow Point Community, Yarrow Point, WA, 9:30 p.m. to 11 p.m. on July 4, 2009.

(21) Fireworks Display, Henderson Bay, WA, 9:30 p.m. to 11:30 p.m. on July 4, 2009.

(22) Chase Family Fourth at Lake Union, Lake Union, WA, 9:30 p.m. to 11:30 p.m. on July 4, 2009.

(23) Port Orchard 4th of July Fireworks, Port Orchard, WA, 8:30 p.m. to 11:59 p.m. on July 4, 2009.

(24) Steilicoom Annual 4th of July Fireworks, Steilicoom, WA, 7:30 p.m. to 11:30 p.m. on July 4, 2009.

(25) Friday Harbor Independence, Friday Harbor, WA, 8:30 p.m. to 11:59 p.m. on July 4, 2009.

(26) City of Anacortes, Fidalgo Bay, WA, 9:30 p.m. to 11:30 p.m. on July 4, 2009.

(27) Port Angeles, Port Angeles Harbor, WA, 9:30 p.m. to 11:30 p.m. on July 4, 2009.

(28) 4th of July, Roche Harbor, WA, 9:30 p.m. to 11:30 p.m. on July 4, 2009.

(29) Brewster Fire Department 4th of July, Brewster, WA, 9:30 p.m. to 11:30 p.m. on July 4, 2009.

(30) Des Moines 4th of July, Des Moines, WA, 9:30 p.m. to 11 p.m. on July 4, 2009.

(31) Mercer Island Summer Celebration, Mercer Island, WA, 9 p.m. to 11:30 p.m. on July 11, 2009.

(32) Whaling Days, Dyes Inlet Silverdale, WA, 7:30 p.m. to 11:30 p.m. on July 24, 2009.

(33) Seafair, Lake Washington, WA, 9:30 p.m. to 11 p.m. on August 1, 2009.

Through this action, the U.S. Coast Guard intends to protect the safety of vessels and spectators during these firework displays. Entry into these zones will be prohibited unless authorized by the Captain of the Port or a designated representative. The Captain of the Port may be assisted by other federal, state, or local agencies as needed.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

We expect the economic impact of this rule to be so minimal that a full Regulatory Analysis is unnecessary.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This temporary rule will affect the following entities, some of which may be small entities: The owners or operators of vessels intending to transit a portion of the Puget Sound while this rule is enforced. These safety zones will not have significant economic impact on a substantial number of small entities for the following reasons. These temporary safety zones will be in effect for minimal times when vessel traffic volume is low and are limited in size. If safe to do so, traffic will be allowed to pass through the zones with the permission of the Captain of the Port or a desginated representative.

Assistance for Small Entities

Under section 213(a) of the Small Business Regulatory Enforcement Fairness Act of 1996 (Pub. Law. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions which do not individually or cumulatively have a significant effect on the human environment. This rule is categorically excluded, under figure 2-1, paragraph (34)(g), of the Instruction because this rule involves the establishment of safety zones. An environmental analysis checklist and a categorical exclusion determination are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 7013306, 3703; 50 U.S.C. 191, 195; 33 CFR 1.05-1, 6.04-1, 6.04-6, and 160.5; Public Law 107-295, 116 Stat. 2064; Department of Homeland Security Delegation No. 0170.1.

2. Add a new temporary section § 165.T13-095 to read as follows:

§ 165.T13-095 Safety Zones; Fireworks displays within the Captain of the Port Puget Sound Zone.

(a) Safety Zones. The following areas are safety zones:

(1) Alderbrook Resort & Spa 4th of July, Hood Canal, WA.

Location. All waters of Hood Canal, WA extending to a 300′ radius from the launch site at 47°21′02″ N 123°04′06″ W.

Effective time and date. 9:45 p.m. to 11:30 p.m. on July 2, 2009.

(2) Langlie's Old Fashioned Independence Celebration, Indianola, WA.

Location. All waters of Indianola, WA extending out to a 500′ radius from the launch site at 47°44′49″ N 122°31′32″ W.

Effective time and date. 9:30 p.m. to 11:30 p.m. on July 3, 2009.

(3) Independence Day Firework Show, Liberty Bay Poulsbo, WA.

Location. All waters of Liberty Bay Poulsbo, WA extending out to a 800′ radius from the launch site at 47°43′55″ N 122°39′08″ W.

Effective time and date. 7:30 p.m. to 11:30 p.m. on July 3, 2009.

(4) Deer Harbor Annual Fireworks Display, Deer Harbor, WA.

Location. All waters of Deer Harbor, WA extending to a 500′ radius from the launch site at 48°37′00″ N 123°00′15″ W.

Effective time and date. 11:30 a.m. on July 3, 2009 to 01 a.m. on July 4, 2009.

(5) Tacoma Freedom Fair, Commencement Bay, WA.

Location. All waters of Commencement Bay, WA extending out to a 700′ radius from the launch site at 47°16′49″ N 122°27′56″ W.

Effective time and date. 9 p.m. to 11:30 p.m. on July 4, 2009.

(6) Blast Over Bellingham Bay, Bellingham Bay, WA.

Location. All waters of Bellingham Bay, WA extending to a 1300′ radius from the launch site at 48°44′56″ N 122°29′40″ W.

Effective time and date. 9:30 p.m. to 11:30 p.m. on July 4, 2009.

(7) Bainbridge Island 4th of July, Eagle Harbor, WA.

Location. All waters of Eagle Harbor, WA extending out to a 800′ radius from the launch site at 47°37′16″ N 122°31′35″ W.

Effective time and date. 9 p.m. to 11:30 p.m. on July 4, 2009.

(8) Sheridan Beach Community, Lake Forest Park, WA.

Location. All waters of Lake Forest Park, WA extending out to a 300′ radius from the launch site at 47°44′47″ N 122°16′55″ W.

Effective time and date. 9 p.m. to 11:30 p.m. on July 4, 2009.

(9) City of Kenmore 4th of July, Lake Forest Park, WA.

Location. All waters of Lake Forest Park, WA extending out to a 400′ radius from the launch site at 47°39′00″ N 122°13′33″ W.

Effective time and date. 9 p.m. to 11:30 p.m. on July 4, 2009.

(10) Vashon Island 4th of July, Quartermaster Harbor, WA.

Location. All waters of Quartermaster Harbor, WA extending out to a 1300′ radius from the launch site at 47°45′15″ N 122°15′45″ W.

Effective time and date. 9 p.m. to 11:30 p.m. on July 4, 2009.

(11) Three Tree Point Community, Three Tree Point, WA.

Location. All waters of Three Tree Point, WA extending out to a 500′ radius from the launch site at 47°27′02″ N 122°23′09″ W.

Effective time and date. 9:30 p.m. to 11:30 p.m. on July 4, 2009.

(12) Medina Days, Medina Park, WA.

Location. All waters of Medina Park, WA extending out to a 400′ radius from the launch site at 47°36′52″ N 122°14′30″ W.

Effective time and date. 9:30 p.m. to 11:30 p.m. on July 4, 2009.

(13) Orcas Island, Rock Island, Orcas Island, WA.

Location. All waters of Rock Island, Orcas Island, WA extending out 700′ radius from the launch site at 48°41′19″ N 122°54′28″ W.

Effective time and date. 9 p.m. to 11:59 p.m. on July 4, 2009.

(14) Kingston Fireworks, Appletree Cove, WA.

Location. All waters of Appletree Cove, WA extending out to a 400′ radius from the launch site at 47°47′39″ N 122°29′55″ W.

Effective time and date. 9:30 p.m. to 11 p.m. on July 4, 2009.

(15) Port Townsend Sunrise Rotary, Port Townsend, WA.

Location. All waters of Fort Wooden Park, Port Townsend, WA extending out to a 500′ radius from the launch site at 48°08′04″ N 122°46′28″ W.

Effective time and date. 9:30 p.m. to 11 p.m. on July 4, 2009.

(16) City of Mount Vernon 4th of July, Edgewater Park, WA.

Location. All waters of Edgewater Park, WA within a box bounded by the points: 48°25′15″ N 122°20′28″ W; 48°25′14″ N 122°20′21″ W; 48°25′03″ N 122°20′23″ W; 48°25′10″ N 122°20′30″ W.

Effective time and date. 9:30 p.m. to 11:30 p.m. on July 4, 2009.

(17) Kirkland 4th of July, Kirkland, Lake Washington, WA.

Location. All waters of Kirkland, Lake Washington WA extending out to a 700′ radius from the launch site at 47°40′35″ N 122°12′84″ W.

Effective time and date. 9:30 p.m. to 11:30 p.m. on July 4, 2009.

(18) Lake Forest Park 4th of July, Lake Forest Park, WA.

Location. All waters of Lake Forest Park, WA extending out to a 400′ radius from the launch site at 47°45′07″ N 122°16′22″ W.

Effective time and date. 9:30 p.m. to 11 p.m. on July 4, 2009.

(19) City of Renton, Renton, Lake Washington, WA.

Location. All waters of Renton, Lake Washington, WA extending out to a 400′ radius from the launch site at 47°29′59″ N 122°11′51″ W.

Effective time and date. 9:30 p.m. to 11 p.m. on July 4, 2009.

(20) Yarrow Point Community, Yarrow Point, WA.

Location. All waters of Yarrow Point, WA extending out to a 600′ radius from the launch site at 47°38′43.62″ N 122°13′27.95″ W.

Effective time and date. 9:30 p.m. to 11 p.m. on July 4, 2009.

(21) Fireworks Display, Henderson Bay, WA.

Location. All waters of Henderson Bay, WA extending out to a 600′ radius from the launch site at 47°21′48″ N 122°38′22″ W.

Effective time and date. 9:30 p.m. to 11:30 p.m. on July 4, 2009.

(22) Chase Family Fourth at Lake Union, Lake Union, WA.

Location. All waters of Lake Union, WA bounded by the following points: 47°38.592′ N 122°20.242′ W; 47°38.567′ N 122°19.963′ W; 47°38.210′ N 122°20.238′ W; 47°38.210′ N 122°19.953′ W.

Effective time and date. 9:30 p.m. to 11:30 p.m. on July 4, 2009.

(23) Port Orchard 4th of July Fireworks, Port Orchard, WA.

Location. All waters of Port Orchard, WA extending to a 1,000′ radius from the launch site at 47°32′53″ N 122°37′55″ W.

Effective time and date. 8:30 p.m. to 11:59 p.m. on July 4, 2009.

(24) Steilicoom Annual 4th of July Fireworks, Steilicoom, WA.

Location. All waters of Steilicoom, WA extending to a 1300′ radius from the launch site at 47°10′24″ N 122°36′12″ W.

Effective time and date. 7:30 p.m. to 11:30 p.m. on July 4, 2009.

(25) Friday Harbor Independence, Friday Harbor, WA.

Location. All waters of Friday Harbor, WA extending to a 700′ radius from the launch site at 48°32′36″ N 122°00′28″ W.

Effective time and date. 8:30 p.m. to 11:59 p.m. on July 4, 2009.

(26) City of Anacortes, Fidalgo Bay, WA.

Location. All waters of Fidalgo Bay, WA extending to a 600′ radius from the launch site at 47°17′06″ N 122°28′24″ W.

Effective time and date. 9:30 p.m. to 11:30 p.m. on July 4, 2009.

(27) Port Angeles, Port Angeles Harbor, WA.

Location. All waters of Port Angeles Harbor, WA extending to a 600′ radius from the launch site at 48°07′02″ N 123°24′58″ W.

Effective time and date. 9:30 p.m. to 11:30 p.m. on July 4, 2009.

(28) 4th of July, Roche Harbor, WA.

Location. All waters of Roche Harbor, WA extending to an 800′ radius from the launch site at 48°36′42″ N 123°09′30″ W.

Effective time and date. 9:30 p.m. to 11:30 p.m. on July 4, 2009.

(29) Brewster Fire Department 4th of July, Brewster, WA.

Location. All waters of northern Columbia River, WA extending to an 800′ radius from the launch site at 48°06′22″ N 119°47′09″ W.

Effective time and date. 9:30 p.m. to 11:30 p.m. on July 4, 2009.

(30) Des Moines 4th of July, Des Moines, WA.

Location. All waters of Des Moines Marina Pier, WA extending to a 400′ radius from the launch site at 47°24′07″ N 122°20′02″ W.

Effective time and date. 9:30 p.m. to 11 p.m. on July 4, 2009.

(31) Mercer Island Summer Celebration, Mercer Island, WA.

Location. All waters of Lake Washington, WA extending out to a 400′ radius from the launch site at 47°35′31″ N 122°13′14″ W.

Effective time and date. 9 p.m. to 11:30 p.m. on July 11, 2009.

(32) Whaling Days, Dyes Inlet Silverdale, WA.

Location. All waters of Dyes Inlet Silverdale, WA extending out to a 1000′ radius from the launch site at 47°38′39″ N 122°41′21″ W.

Effective time and date. 7:30 p.m. to 11:30 p.m. on July 24, 2009.

(33) Seafair, Lake Washington, WA.

Location. All waters of Lake Washington, WA extending out to a 1000′ radius from the launch site at 47°34′20″ N 122°16′01″ W.

Effective time and date. 9:30 p.m. to 11 p.m. on August 1, 2009.

(b) Regulations. In accordance with the general regulations in 33 CFR Part 165, Subpart C, no vessel may enter, transit, moor, or anchor within any of these safety zones except for vessels authorized by the Captain of the Port or a Designated Representative.

(c) Authorization. All vessel operators who desire to enter any of these safety zones must obtain permission from the Captain of the Port or a Designated Representative by contacting either the on-scene patrol craft on VHF Ch 13 or Ch 16 or the Coast Guard Sector Seattle Joint Harbor Operations Center (JHOC) via telephone at (206) 217-6002.

(d) Enforcement Period. This rule is effective from 8 a.m. on July 2, 2009 through 8 a.m. on August 2, 2009.

Dated: July 1, 2009.
Suzane E. Englebert,
Captain, U.S. Coast Guard, Captain of the Port, Puget Sound.

[FR Doc. E9-16804 Filed 7-14-09; 8:45 am]

BILLING CODE 4910-15-P